DEPARTMENT OF AGRICULTURE

Forest Service

Notice of Proposed New Fee Site

AGENCY: Forest Service, Agriculture (USDA).

ACTION: Notice of proposed new fee site.

SUMMARY: The National Forests and Grasslands in Texas is proposing to charge a new fee at one recreation site listed in SUPPLEMENTARY INFORMATION of this notice. Funds from fees would be used for operation, maintenance, and improvements of the recreation site. An analysis of nearby developed recreation sites with similar amenities shows the proposed fees are reasonable and typical of similar sites in the area.

DATES: If approved, the new fee would be implemented no earlier than six months following the publication of this notice in the Federal Register.

ADDRESSES: National Forests and Grasslands in Texas, 2221 North Raguet Street, Lufkin, TX 75904.

FOR FURTHER INFORMATION CONTACT: Benjamin Richardson, Recreation Program Manager, 936-707-6225, Benjamin.Richardson@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forests can continue maintaining and improving recreation sites like this for future generations.

As part of this proposal, a $5 day-use fee per vehicle with a $40 annual pass option at Boykin Springs Recreation Area would be added to improve services and facilities. The full suite of Interagency passes would be honored.

New fees would provide increased visitor opportunities, as well as increased staffing to address operations and maintenance needs and enhance customer service. Once public involvement is complete, these new fees will be reviewed by a Recreation Resource Advisory Committee prior to a final decision and implementation.

Dated: March 23, 2022.
Sandra Watts,
Acting Associate Deputy Chief, National Forest System.

[FR Doc. 2022-06463 Filed 3-25-22; 8:45 am]

BILLING CODE 3411-15-P